DEPARTMENT OF COMMERCE

National Oceanic and Atmospheric Administration

[RTID 0648-XA308]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Monday, August 10, 2020, from 1 p.m. to 5 p.m., Tuesday, August 11, 2020, from 9 a.m. to 4 p.m.; Wednesday, August 12, 2020, from 9 a.m. to 3 p.m.; and, Thursday, August 13, 2020, from 9 a.m. to 1 p.m. For agenda details, see SUPPLEMENTARY INFORMATION.

ADDRESSES: Due to public health concerns related to the spread of COVID-19 (coronavirus), the Mid-Atlantic Fishery Management Council's August meeting will be conducted by webinar only. This webinar-based meeting replaces the in-person meeting previously scheduled to be held in Philadelphia, PA. Please see the Council's website (www.mafmc.org) for log-in procedures.

Council address: Mid-Atlantic Fishery Management Council, 800 N State St, Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, August 10, 2020

Mackerel, Squid, Butterfish Committee, Meeting as a Committee of the Whole—Butterfish, Longfin Squid, and Atlantic Mackerel Specifications

Review SSC, Advisory Panel, Monitoring Committee, and staff recommendations, adopt 2021-23 specifications for longfin squid including butterfish cap, and adopt 2021-22 specifications for butterfish and mackerel

River Herring/Shad (RH/S) Committee, Meeting as a Committee of the Whole—RH/S Cap for the Mackerel Fishery

Review RH/S cap operation and adopt 2021-22 RH/S cap for the mackerel fishery

Acknowledge Outgoing Council Members

Tuesday, August 11, 2020

Swearing in of New and Reappointed Council Members and Election of Officers

Bluefish Specifications

Review SSC, Monitoring Committee, Advisory Panel, and staff recommendations for 2021 specifications and review previously implemented 2021 specifications and recommend changes if necessary

Summer Flounder Specifications

Review SSC, Monitoring Committee, Advisory Panel, and staff recommendations for 2021 specifications and review previously implemented 2021 specifications and recommend changes if necessary

Scup Commercial Discards Report

Review commercial scup discards through 2019

Scup Specifications

Review SSC, Monitoring Committee, Advisory Panel, and staff recommendations for 2021 specifications and review previously implemented 2021 specifications and recommend changes if necessary

Black Sea Bass Specifications and February Recreational Fishery

Review SSC, Monitoring Committee, Advisory Panel, and staff recommendations for 2021 specifications, review previously implemented 2021 specifications and recommend changes if necessary, consider revisions to the February recreational fishery opening for 2021, and consider North Carolina proposal to account for February 2020 harvest (Board action only)

Wednesday, August 12, 2020

Summer Flounder, Scup, and Black Sea Bass Commercial/Recreational Allocation Amendment

Review FMAT recommendations for draft alternatives and approve a range of alternatives for inclusion in a public hearing document

Surfclam and Ocean Quahog Specifications and Updates

Review SSC, Advisory Panel, and staff recommendations, adopt 2021-26 specifications, and receive an update on the Surfclam and Ocean Quahog Commingling/Discard Issue and Genetics Study

Thursday, August 13, 2020

Business Session

Committee Reports: SSC; Executive Director's Report (Discuss Executive Order on Promoting American Seafood Competitiveness and Economic Growth); Organization Reports; and, Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: July 20, 2020.
Diane M. DeJames-Daly,
Acting Deputy Director, Office of Sustainable Fisheries, National Marine Fisheries Service.

[FR Doc. 2020-16002 Filed 7-22-20; 8:45 am]

BILLING CODE 3510-22-P